DEPARTMENT OF LABOR

Mine Safety and Health Administration

Notice of Affirmative Decisions on Petitions for Modification Granted in Whole or in Part

AGENCY: Mine Safety and Health Administration (MSHA), Labor.

ACTION: Notice of Affirmative Decisions on Petitions for Modification Granted in Whole or in Part.

SUMMARY: The Mine Safety and Health Administration (MSHA) enforces mine operator compliance with mandatory safety and health standards that protect miners and improve safety and health conditions in U.S. mines. This Federal Register Notice (FR Notice) notifies the public that it has investigated and issued a final decision on certain mine operator petitions to modify a safety standard.

ADDRESSES: Copies of the final decisions are posted on MSHA's Web site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Barbara Barron at 202-693-9447 (Voice), barron.barbara@dol.gov (e-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2006-080-C.

FR Notice: 72 FR 8202 (February 23, 2007).

Petitioner: Black Beauty Coal Company, 13101 Ziegler 11 Road, P.O. Box 369, Coulterville, Illinois 62237.

Mine: Gateway Mine, MSHA I.D. No. 11-02408, located in Randolph County, Illinois.

Regulation Affected: 30 CFR 75.364(b)(1) (Weekly examination).

• Docket Number: M-2006-088-C.

FR Notice: 72 FR 8204 (February 23, 2007).

Petitioner: Cumberland River Coal Company, P.O. Drawer 109, Appalachia, Virginia 24216.

Mine: Band Mill Mine, MSHA I.D. 44-06816, located in Wise County, Virginia.

Regulation Affected: 30 CFR 75.364(b)(1) (Weekly examination).

• Docket Number: M-2008-002-C.

FR Notice: 73 FR 12775 (March 10, 2008).

Petitioner: Blue Diamond Coal Company, P.O. Box 47, Slemp, Kentucky 41763.

Mine: Mine #75, MSHA I.D. 15-17478, located in Perry County, Kentucky.

Regulation Affected: 30 CFR 75.364(b)(2) (Weekly examination).

• Docket Number: M-2008-014-C.

FR Notice: 73 FR 28529 (May 16, 2008).

Petitioner: AMFIRE Mining Company, LLC, One Energy Place, Latrobe, Pennsylvania 15650.

Mine: Ondo Extension Mine, MSHA I.D. No. 36-09005, located in Indiana County, Pennsylvania.

Regulation Affected: 30 CFR 75.500(d) (Permissible electric equipment).

• Docket Number: M-2008-015-C.

FR Notice: 73 FR 28529 (May 16, 2008).

Petitioner: AMFIRE Mining Company, LLC, One Energy Place, Latrobe, Pennsylvania 15650.

Mine: Nolo Mine, MSHA I.D. No. 36-08850, located in Armstrong County, Pennsylvania.

Regulation Affected: 30 CFR 75.500(d) (Permissible electric equipment).

• Docket Number: M-2008-016-C.

FR Notice: 73 FR 28529 (May 16, 2008).

Petitioner: AMFIRE Mining Company, LLC, One Energy Place, Latrobe, Pennsylvania 15650.

Mine: Madison Mine, MSHA I.D. No. 36-09127, located in Cambria County, Pennsylvania.

Regulation Affected: 30 CFR 75.500(d) (Permissible electric equipment).

• Docket Number: M-2008-017-C.

FR Notice: 73 FR 28529 (May 16, 2008).

Petitioner: AMFIRE Mining Company, LLC, One Energy Place, Latrobe, Pennsylvania 15650.

Mine: Gillhouser Run Mine, MSHA I.D. No. 36-09033, located in Indiana County, Pennsylvania.

Regulation Affected: 30 CFR 75.500(d) (Permissible electric equipment).

• Docket Number: M-2008-018-C.

FR Notice: 73 FR 28529 (May 16, 2008).

Petitioner: AMFIRE Mining Company, LLC, One Energy Place, Latrobe, Pennsylvania 15650.

Mine: Dora 8 Mine, MSHA I.D. No. 36-08704, located in Jefferson County, Pennsylvania.

Regulation Affected: 30 CFR 75.500(d) (Permissible electric equipment).

• Docket Number: M-2008-019-C.

FR Notice: 73 FR 28530 (May 16, 2008).

Petitioner: White County Coal, LLC, 1525 Country Road 1300 N, P.O. Box 457, Carmi, Illinois.

Mine: Pattiki Mine, MSHA I.D. No. 11-03058, located in White County, Illinois.

Regulation Affected: 30 CFR 75.503 (Permissible electric face equipment; maintenance).

• Docket Number: M-2008-020-C.

FR Notice: 73 FR 31147 (May 30, 2008).

Petitioner: Rockhouse Creek Development, LLC, P.O. Box 1389, Gilbert, West Virginia 25621.

Mine: No. 6 Mine, MSHA I.D. No. 46-08268, Mine No. 2, MSHA I.D. No. 46-08636, and No. 9 Mine, MSHA I.D. No. 46-08976, located in Logan County, West Virginia; and No. 3 Mine, MSHA I.D. No. 46-08778 and No. 8 Mine, MSHA I.D. No. 46-09018, located in Mingo County, West Virginia.

Regulation Affected: 30 CFR 75.1101-1(b) (Deluge-type water spray systems).

• Docket Number: M-2008-025-C.

FR Notice: 73 FR 34963 (June 19, 2008).

Petitioner: ICG Beckley, LLC, P.O. Box 49, Eccles, West Virginia 25836.

Mine: Beckley Pocahontas Mine, I.D. No. 46-05252, located in Raleigh County, West Virginia.

Regulation Affected: 30 CFR 75.1101-1(b) (Deluge-type water spray systems).

• Docket Number: M-2008-046-C.

FR Notice: 73 FR 61912 (October 17, 2008).

Petitioner: Black Beauty Coal Company, 13101 Ziegler 11 Road, P.O. Box 369, Coulterville, Illinois 62237.

Mine: Gateway Mine, MSHA I.D. 11-02408, located in Randolph County, Illinois.

Regulation Affected: 30 CFR 75.1101-1(b) (Deluge-type water spray systems).

Patricia W. Silvey,
Director, Office of Standards, Regulations and Variances.

[FR Doc. E9-11685 Filed 5-19-09; 8:45 am]

BILLING CODE 4510-43-P